DEPARTMENT OF COMMERCE

National Oceanic and Atmospheric Administration

[I.D. 081902B]

Draft Code of Conduct for Responsible Aquaculture in the U. S. Exclusive Economic Zone

AGENCY: National Marine Fisheries Service (NMFS), National Oceanic and Atmospheric Administration (NOAA), Commerce.

ACTION: Notice of availability; schedule change; request for comments.

SUMMARY: The National Marine Fisheries Service (NMFS) announces the availability of a draft Code of Conduct for Responsible Aquaculture in the U. S. Exclusive Economic Zone (Code of Conduct). The purpose of the Code of Conduct is to provide general guidance for siting and operating aquaculture facilities in the Exclusive Economic Zone (EEZ) seaward of coastal state boundaries and authorities. NMFS solicits written comments on the Code of Conduct. NMFS also announces a schedule change for the publication of a final Code of Conduct.

DATES: Submit written comments on the draft Code of Conduct to the appropriate address or fax number by 5 p.m. on September 23, 2002.

ADDRESSES: The draft Code of Conduct is available on the NMFS Web site: www.nmfs.gov/aquaculture.htm. The document will also be provided in hard copy upon request (see FOR FURTHER INFORMATION CONTACT). Comments on the Code of Conduct may be sent to Colin Nash, NMFS/WASC, P.O. Box 130, Manchester, WA 98353 or by fax to 206-842-8364. Comments may also be hand-delivered during business hours to: NMFS Manchester Research Station, 7305 Beach Drive East, Port Orchard, WA, 98366-8204. Comments will not be accepted via telephone, e-mail, or Internet.

FOR FURTHER INFORMATION CONTACT: Susan Bunsick, Office of Sustainable Fisheries, 1315 East-West Highway, Silver Spring, MD 20910 or call 301-713-2334 Extension 102. You may also fax your request to 301-713-0596 or send an e-mail to susan.bunsick@noaa.gov. Comments on the Code of Conduct will not be accepted at these contact points.

SUPPLEMENTARY INFORMATION:

Background

NMFS has Federal responsibility for the living marine resources of the United States. Under authority of the Magnuson-Stevens Fishery Conservation and Management Act, NMFS has responsibility for federally managed species and for the conservation and enhancement of essential fish habitat in the zone seaward of coastal state boundaries to the 200-nautical mile limit of the EEZ. NMFS has additional responsibilities for threatened and endangered species and for marine mammals under authorities of the Endangered Species Act and the Marine Mammal Protection Act.

The United States was an active participant in the 1993-1995 consultations that led to the adoption by the Food and Agriculture Organization of the United Nations (FAO) of the Code of Conduct for Responsible Fisheries (FAO Code). While the FAO Code is a voluntary and non-binding instrument, the United States has consistently supported its usefulness as an internationally agreed upon statement of principles that should govern the policies of FAO members in all sectors of the fishing industry, including aquaculture, which is addressed in Article 9 of the FAO Code. Although the Code of Conduct for the U.S. EEZ does not have to follow the FAO model, the FAO Code is an important reference instrument. A copy of the aquaculture section (Article 9) of the FAO Code can be obtained from the contact person listed above, and can be found on the Internet at http://www.fao.org/fi/agreem/codecond/ficonde.asp.

Stakeholder Input

NMFS held a series of six regional workshops during 2000 to obtain stakeholder input on the development of the draft Code of Conduct. These were held in Seattle (WA), Danvers (MA), and Galveston (TX) in September 2000, and in Honolulu (HI), Miami (FL), and Silver Spring (MD) in November 2000. NMFS announced the meetings in two separate Federal Register notices, dated August 24, 2000 (65 FR 51591), and October 30, 2000 (65 FR 64682), and encouraged stakeholder participation through more than 200 contacts in state and Federal agencies, Sea Grant College Program Centers, education and research institutions, non-governmental organizations, and commercial enterprises. NMFS specifically asked for input on the scope, content, specificity and use of a Code of Conduct that can be used to help guide aquaculture development in the EEZ. Areas for discussion included, but were not limited to, species choices, siting, transboundary considerations, design and construction of facilities, disease prevention and control, feeds and feeding protocols, effluents and pollution, interactions with wild species and protected resources, general operations, stock enhancement, use conflict resolution, and on-shore impacts. The workshops were open to all interested persons, and a total of 181 persons attended. In addition, NMFS received written comments from an additional 23 contributors.

The Code of Conduct

The Code of Conduct provides guidance to potential users of the U.S. EEZ for aquaculture. It provides general guidance to the aquaculture industry for siting and operating aquaculture facilities in this zone, and provides NMFS with a framework that can be used to ensure a more consistent review of aquaculture projects that require agency actions. NMFS may also use the Code of Conduct as a starting point for the development of regulatory standards in the future.

The Code of Conduct was developed with input secured from stakeholders and in consultation with other Federal agencies with authorities in Federal waters. Public comments received regarding this document will be addressed in the notice of availability of the final Code of Conduct, which will be published in the Federal Register within 60 days of the closing of the public comment period. The two previous Federal Register notices, dated August 24, 2000 (65 FR 51591), and October 30, 2000 (65 FR 64682), provided a tentative time frame for the production of a Code of Conduct. The time frame has been revised as provided here.

Time Frame

August 2002: Release draft Code of Conduct for public comment via posting of the document on the NMFS Web site (www.nmfs.gov/aquaculture.htm). The document will also be provided in hard copy upon request (see FOR FURTHER INFORMATION CONTACT).

September 2002: Public comment period on draft Code of Conduct ends.

November 2002: Release final Code of Conduct via a Federal Register notice of availability and posting on the NMFS Web site (www.nmfs.gov/aquaculture.htm). The document will also be provided in hard copy upon request (see FOR FURTHER INFORMATION CONTACT).

Dated: August 20, 2002.
Virginia M. Fay,
Acting Director, Office of Sustainable Fisheries, National Marine Fisheries Service.

[FR Doc. 02-21588 Filed 8-22-02; 8:45 am]

BILLING CODE 3510-22-S